DEPARTMENT OF HEALTH AND HUMAN SERVICES

National Institutes of Health

National Human Genome Research Institute; Amended Notice of Meeting

Notice is hereby given of a change in the meeting of the National Human Genome Research Institute Special Emphasis Panel, November 22, 2011, 12 p.m. to November 22, 2011, 1 p.m., NHGRI Fishers Lane Office, 5635 Fishers Lane, 4076, Rockville, MD 20852 which was published in the Federal Register on October 27, 2011, 76FRN66731.

The meeting notice was amended to change the meeting date and time from November 22, 2011 to December 1, 2011 from 12 p.m. to 3 p.m. The meeting is closed to the public.

Dated: November 14, 2011.
Jennifer S. Spaeth,
Director, Office of Federal Advisory Committee Policy.

[FR Doc. 2011-29882 Filed 11-17-11; 8:45 am]

BILLING CODE 4140-01-P